FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, D.C. 20573.

Non-Vessel-Operating Common Carrier Ocean Transportation Intermediary Applicants:

Sunice Cargo Logistics, Inc., 930 W. Hyde Park Blvd., Inglewood, CA 90302, Officers: Hani Wu (Annie), Secretary/CFO, (Qualifying Individual), Eik H. Ng, President

Maritrans Shipping, Ltd., 639 Boelsen Drive, Westbury, NY 11590, Officer: Michael De Fillippis, President, (Qualifying Individual)

American International, Inc., 2191 Main Street, San Diego, CA 92113, Officers: Kenneth P. Timmons, Manager, (Qualifying Individual), Philip A. Cubilla, CEO

Non-Vessel Operating Common Carrier and Ocean Freight Forwarder Transportation Intermediary Applicants:

Saving Shipping & Forwarding USA, Inc., 2250 Landmeier Road, Suite E, Elk Grove Village, IL 60007, Officers: Robert A. Zabka, Exec. Vice President, (Qualifying Individual), Piergiorgio Igles Bono, President

7M Transport, Inc., 18306 Lazy Moss Lane, Spring, TX 77379, Officer: Howard Leff, President, (Qualifying Individual)

Caseth Logistics Inc., 61 Edgewood Avenue, Wyckoff, NJ 07481, Officers: Manufl Hagalhaes, Oceanfreight Manager, (Qualifying Individual), Charm Yuen Chee, President

DBA Distribution Services, Inc., Building 2W Chimney Rock Road, P.O. Box 6707, Bridgewater, NJ 08807, Officers: Michael J. Capezza, Vice President, (Qualifying Individual), Norman Rosenbaum, President

Trans-Atlantic Freight Forwarding, 13 Tall Oaks Road, Somerset, NJ 08873, Officer: Phipps Ernest Annov-Achampwh, President, (Qualifying Individual)

Ocean Freight Forwarders—Ocean Transportation Intermediary Applicants:

Prudential Residential Services, Limited Partnership, d/b/a Prudential Relocation, 3333 Michelson Dr., Suite 100, Irvine, CA 92612, Officers: Michael Cazalet, Director, (Qualifying Individual), John R. Van Der Wall, CEO, John Springer, Chairman

Hanover Navigation Limited, 55 Green Street, San Francisco, CA 94111, Officer: Brian Darnowski, Vice President, (Qualifying Individual)

Promax Automotive, Inc., 300 River Place, Suite 3000, Detroit, MI 48207-4291, Officers: Toshimasa Nabeshima, Vice President, (Qualifying Individual), Ryohei Ito, Director/President

CIF Group International Inc., 11013 N.W. 30th Street, #115, Miami, FL 33172, Officer: Chen Sun, President, (Qualifying Individual)

Dated: June 16, 2000.
Theodore A. Zook,
Assistant Secretary.

[FR Doc. 00-15670 Filed 6-20-00; 8:45 am]

BILLING CODE 6730-01-P